DEPARTMENT OF COMMERCE

International Trade Administration

[A-469-814]

Chlorinated Isocyanurates from Spain: Rescission of Antidumping Duty Administrative Review: 2019-2020

AGENCY: Enforcement and Compliance, International Trade Administration, Department of Commerce.

SUMMARY: The Department of Commerce (Commerce) is rescinding the administrative review of the antidumping duty (AD) order on chlorinated isocyanurates from Spain for the period of review (POR) June 1, 2019, through May 31, 2020, based on the timely withdrawal of the request for review.

DATES: Applicable October 22, 2020.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Background

On June 2, 2020, Commerce published a notice of opportunity to request an administrative review of the AD order on chlorinated isocyanurates from Spain for the POR.¹ On June 30, 2020, Commerce received a timely-filed request from Bio-Lab, Inc. (Bio-Lab), Clearon Corp. (Clearon), and Occidental Chemical Corporation (OxyChem), domestic producers of chlorinated isocyanurates and the petitioner in the original antidumping investigation (the petitioner) for an administrative review of one Spanish producer and/or exporter, in accordance with section 751(a) of the Tariff Act of 1930, as amended (the Act), and 19 CFR 351.213(b).²

¹ See Antidumping or Countervailing Duty Order, Finding, or Suspended Investigation; Opportunity to Request Administrative Review, 85 FR 33628 (June 2, 2020).

² See Petitioner's Letter, “Chlorinated Isocyanurates from Spain: Request for Administrative Review,” dated June 30, 2020.

On August 6, 2020, pursuant to this request, and in accordance with section 751(a) of the Act and 19 CFR 351.221(c)(1)(i), Commerce published a notice initiating an administrative review of the antidumping duty order on chlorinated isocyanurates from Spain for one Spanish producer and/or exporter.³ On October 8, 2020, the petitioner timely withdrew its request for an administrative review.⁴

³ See Initiation of Antidumping and Countervailing Duty Administrative Reviews, 85 FR 47731 (August 6, 2020).

⁴ See Petitioner's Letter, “Chlorinated Isocyanurates from Spain: Withdrawal of Request for Administrative Review,” dated October 8, 2020.

Rescission of Review

Pursuant to 19 CFR 351.213(d)(1), Commerce will rescind an administrative review, in whole or in part, if the party or parties that requested a review withdraws the request within 90 days of the publication date of the notice of initiation of the requested review. The petitioner withdrew its request for review within the 90-day deadline. Because Commerce received no other requests for review, we are rescinding the administrative review of the order on chlorinated isocyanurates from Spain covering the June 1, 2019, through May 31, 2020 POR, in accordance with 19 CFR 351.213(d)(1).

Assessment

Commerce will instruct U.S. Customs and Border Protection (CBP) to assess antidumping duties on all appropriate entries of chlorinated isocyanurates from Spain. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Orders

This notice also serves as a reminder to all parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: October 16, 2020.
James Maeder,
Deputy Assistant Secretary for Antidumping and Countervailing Duty Operations.

[FR Doc. 2020-23429 Filed 10-21-20; 8:45 am]

BILLING CODE 3510-DS-P